DEPARTMENT OF TRANSPORTATION

Federal Aviation Administration

14 CFR Part 39

[Docket No. FAA-2021-0255; Project Identifier AD-2020-01282-T]

RIN 2120-AA64

Airworthiness Directives; The Boeing Company Airplanes

AGENCY: Federal Aviation Administration (FAA), DOT.

ACTION: Proposed rule; withdrawal.

SUMMARY: The FAA is withdrawing a notice of proposed rulemaking (NPRM) that proposed to adopt a new airworthiness directive (AD) that would have applied to certain The Boeing Company Model 787-8, 787-9, and 787-10 airplanes. The NPRM was prompted by reports that very high frequency (VHF) radio frequencies transfer between the active and standby windows of the tuning control panel (TCP) without flightcrew input. The NPRM would have required updating the TCP operational software (OPS) and performing a software configuration check. Since issuance of the NPRM, the FAA determined that the TCP OPS version specified in the NPRM does not correct the unsafe condition. The FAA intends to propose new rulemaking to require updated software. Accordingly, the NPRM is withdrawn.

DATES: The FAA is withdrawing the proposed rule published on April 7, 2021 (86 FR 17993) as of September 9, 2021.

ADDRESSES:

Examining the AD Docket

You may examine the AD docket on the internet at https://www.regulations.gov by searching for and locating Docket No. FAA-2021-0255; or in person at Docket Operations between 9 a.m. and 5 p.m., Monday through Friday, except Federal holidays. The AD docket contains this AD action, any comments received, and other information. The street address for Docket Operations is U.S. Department of Transportation, Docket Operations,M-30, West Building Ground Floor, Room W12-140, 1200 New Jersey Avenue SE, Washington, DC 20590.

FOR FURTHER INFORMATION CONTACT: Frank Carreras, Aerospace Engineer, Systems and Equipment Section, FAA, Seattle ACO Branch, 2200 South 216th St., Des Moines, WA 98198; phone and fax: 206-231-3539; email: frank.carreras@faa.gov.

SUPPLEMENTARY INFORMATION:

Background

The FAA issued an NPRM that proposed to amend 14 CFR part 39 by adding an AD that would apply to certain The Boeing Company Model 787-8, 787-9, and 787-10 airplanes. The NPRM was published in the Federal Register on April 7, 2021 (86 FR 17993). The NPRM was prompted by reports that very high frequency (VHF) radio frequencies transfer between the active and standby windows of the tuning control panel (TCP) without flightcrew input.

The NPRM proposed to require updating the TCP OPS and performing a software configuration check. The proposed actions were intended to address uncommanded frequency changes, which could result in missed air traffic control communications such as amended clearances and critical instructions for changes to flight path, and consequent loss of safe separation between aircraft, collision, or runway incursion.

Actions Since the NPRM Was Issued

Since issuance of the NPRM the FAA determined that the TCP OPS version specified in the NPRM does not correct the unsafe condition. The manufacturer is developing a new version of the software which will better address the unsafe condition. Required development and testing of the new software results in scheduled availability of the revised service information by June 2022. In light of these changes, the FAA intends to propose further rulemaking.

Withdrawal of the NPRM constitutes only such action. The withdrawal does not preclude the FAA from further rulemaking on this issue or commit the FAA to any course of action in the future.

Comments

The FAA received comments on the NPRM from three commenters. The following presents the comments received on the NPRM and the FAA's response to the comment.

Boeing asked that the FAA delay issuance of the final rule until the next TCP OPS revision. Boeing stated that based on additional fleet reports, it has concluded that the OPS version specified in Boeing Alert Requirements Bulletin B787-81205-SB230041-00 RB, Issue 002, dated September 14, 2020, and specified in the NPRM, does not adequately address the “TCP VHF Uncommanded Frequency Change” issue. Boeing is continuing to evaluate fleet reports and is will address the cause of the additional findings in the next TCP OPS revision. The FAA agrees that the NPRM will not address the unsafe condition. When appropriate service information is developed, approved, and available, the FAA intends to propose new rulemaking to require the updated software.

American Airlines requested that the FAA revise paragraph (g) of the proposed AD to allow later FAA-approved software. The FAA agrees with the request, but because the FAA is withdrawing the NPRM, the request is no longer necessary.

The Air Line Pilots Association (ALPA) supported the NPRM.

FAA's Conclusions

Upon further consideration, the FAA has determined that the NPRM does not adequately address the identified unsafe condition. Accordingly, the FAA is withdrawing the NPRM.

Regulatory Findings

Since this action only withdraws an NPRM, it is neither a proposed nor a final rule. This action therefore is not covered under Executive Order 12866, the Regulatory Flexibility Act, or DOT Regulatory Policies and Procedures (44 FR 11034, February 26, 1979).

List of Subjects in 14 CFR Part 39

Air transportation, Aircraft, Aviation safety, Incorporation by reference, Safety.

The Withdrawal

Accordingly, the notice of proposed rulemaking (NPRM) (Docket No. FAA-2021-0255), which was published in the Federal Register on April 7, 2021 (86 FR 17993), is withdrawn.

Issued on August 31, 2021.
Gaetano A. Sciortino,
Deputy Director for Strategic Initiatives, Compliance & Airworthiness Division, Aircraft Certification Service.

[FR Doc. 2021-19355 Filed 9-8-21; 8:45 am]

BILLING CODE 4910-13-P